Title 3—

The President

Proclamation 8280 of August 25, 2008

Minority Enterprise Development Week, 2008

By the President of the United States of America

A Proclamation

The opportunities of America make our land a beacon of hope for people from every corner of the world. America's minority-owned businesses contribute greatly to our economy and the richness of our country. During Minority Enterprise Development Week, we recognize minority entrepreneurs and recommit ourselves to fostering an environment where everyone can attain the American dream.

In America, people's dreams matter more than their background. Across our country, minority business owners are working hard to achieve their goals and helping to extend the promises of America to their fellow citizens. These businesses and their employees are vital contributors to our national prosperity.

My Administration has lowered taxes, supported pro-growth policies, and enacted an economic stimulus package to encourage small and medium-sized business growth. By keeping more money in the hands of families and small businesses, they can save, invest, spend, and give back to their communities. Our economy is resilient and dynamic because Americans are the most industrious, creative, and enterprising people in the world and because we believe in a free market economy that rewards those qualities.

During Minority Enterprise Development Week, we recognize the value minority entrepreneurs and their employees add to our country. They are vital to our Nation's economic strength and an essential part of our national heritage.

NOW, THEREFORE, I, GEORGE W. BUSH, President of the United States of America, by virtue of the authority vested in me by the Constitution and laws of the United States, do hereby proclaim August 31 through September 6, 2008, as Minority Enterprise Development Week. I call upon all Americans to celebrate this week with appropriate programs, ceremonies, and activities to recognize the many contributions of our Nation's minority enterprises.

IN WITNESS WHEREOF, I have hereunto set my hand this twenty-fifth day of August, in the year of our Lord two thousand eight, and of the Independence of the United States of America the two hundred and thirty-third.

[FR Doc. E8-20195

Filed 8-27-08; 8:45 am]

Billing code 3195-01-P